DEPARTMENT OF COMMERCE

International Trade Administration

[A-533-840]

Certain Frozen Warmwater Shrimp From India: Notice of Final Results of Antidumping Duty Changed Circumstances Review

AGENCY: Enforcement and Compliance, International Trade Administration, Department of Commerce.

SUMMARY: On August 2, 2018, the Department of Commerce (Commerce) initiated, and published the preliminary results of, the changed circumstances review of the antidumping duty order on certain frozen warmwater shrimp (shrimp) from India. For these final results, Commerce continues to find that Coastal Aqua Private Limited (CAPL) is the successor-in-interest to Coastal Aqua.

DATES: Applicable October 3, 2018.

FOR FURTHER INFORMATION CONTACT: Brittany Bauer, AD/CVD Operations, Office II, Enforcement and Compliance, International Trade Administration, U.S. Department of Commerce, 1401 Constitution Avenue NW, Washington, DC 20230; telephone: (202) 482-3860.

SUPPLEMENTARY INFORMATION:

Background

On June 13, 2018, CAPL requested that Commerce conduct an expedited changed circumstances review, pursuant to section 751(b)(1) of the Tariff Act of 1930, as amended (the Act), 19 CFR 351.216(b), and 19 CFR 351.221(c)(3), to confirm that CAPL is the successor-in-interest to Coastal Aqua for purposes of determining antidumping duty cash deposits and liabilities. In its submission, CAPL explained that Coastal Aqua undertook a business reorganization and transferred its shrimp business to CAPL.¹

¹ See CAPL's Letter re: Certain Frozen Warmwater Shrimp from India: Request to Initiate a Successor-in-Interest Changed Circumstances Review for Coastal Aqua Private Limited, dated June 13, 2018 (CAPL CCR Request).

On August 2, 2018, Commerce initiated this changed circumstances review and published the notice of preliminary results, determining that CAPL is the successor-in-interest to Coastal Aqua.² In the Initiation and Preliminary Results, we provided all interested parties with an opportunity to comment and request a public hearing regarding our preliminary finding that CAPL is the successor-in-interest to Coastal Aqua.³ We received no comments or requests for a public hearing from interested parties within the time period set forth in the Initiation and Preliminary Results.⁴

² See Certain Frozen Warmwater Shrimp from India: Initiation and Preliminary Results of Antidumping Duty Changed Circumstances Review, 83 FR 37784 (August 2, 2018) (Initiation and Preliminary Results).

³ Id., 83 FR at 37785.

⁴ Id.

Scope of the Order

The merchandise subject to the order is certain frozen warmwater shrimp.⁵ The product is currently classified under the following Harmonized Tariff Schedule of the United States (HTSUS) item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁵ For a complete description of the Scope of the Order, see Certain Frozen Warmwater Shrimp from India: Final Results of Antidumping Duty Administrative Review; 2016-2017, 83 FR 32835 (July 16, 2018) (12th AR), and accompanying Issues and Decision Memorandum at “Scope of the Order” section.

Final Results of Changed Circumstances Review

For the reasons stated in the Initiation and Preliminary Results, and because we received no comments from interested parties to the contrary, Commerce continues to find that CAPL is the successor-in-interest to Coastal Aqua. As a result of this determination and consistent with established practice, we find that CAPL should receive the cash deposit rate previously assigned to Coastal Aqua in the most recently-completed review of the antidumping duty order on shrimp from India.⁶ Consequently, Commerce will instruct U.S. Customs and Border Protection to suspend liquidation of all shipments of subject merchandise produced or exported by CAPL and entered, or withdrawn from warehouse, for consumption on or after the publication date of this notice in the Federal Register at 1.35 percent, which is the current antidumping duty cash-deposit rate for Coastal Aqua.⁷ This cash deposit requirement shall remain in effect until further notice.

⁶ See, e.g., Certain Frozen Warmwater Shrimp from India: Notice of Final Results of Antidumping Duty Changed Circumstances Review, 81 FR 90774, 90775 (December 15, 2016).

⁷ Coastal Aqua was assigned a 1.35 percent dumping margin in the 2016-2017 administrative review of the AD order on shrimp from India. See 12th AR.

We are issuing this determination and publishing these final results and notice in accordance with sections 751(b)(1) and 777(i)(1) and (2) of the Act, as amended, and 19 CFR 351.216 and 351.221(c)(3).

Dated: September 27, 2018.
Gary Taverman,
Deputy Assistant Secretary for Antidumping and Countervailing Duty Operations, performing the non-exclusive duties and functions of the Assistant Secretary for Enforcement and Compliance.

[FR Doc. 2018-21535 Filed 10-2-18; 8:45 am]

BILLING CODE 3510-DS-P